DEPARTMENT OF ENERGY

Federal Energy Regulatory Commission

[Docket No. PF08-30-000]

Northwest Pipeline GP; Notice of Intent To Prepare an Environmental Assessment for the Proposed Sundance Trail Expansion Project; Request for Comments on Environmental Issues

November 26, 2008.

The Federal Energy Regulatory Commission (FERC or Commission) is in the process of preparing an environmental assessment (EA) on the environmental impacts of the Sundance Trail Expansion Project (Project) involving the construction and operation of new underground natural gas pipeline looping¹ and a modified compressor station proposed by Northwest Pipeline GP (Northwest). The Project is under review in Docket No. PF08-30-000.

¹ A pipeline loop is a segment of pipeline immediately adjacent to an existing pipeline.

This Notice of Intent (NOI) explains the scoping process that will be used to gather input from the public and interested agencies on the Project. Your input will help determine which issues will be evaluated in the EA. Please note that the scoping period for this Project will close on December 29, 2008.

Although a formal application has not been filed, the FERC has already initiated its NEPA review under its pre-filing process. A pre-filing docket number has been assigned to the proposed Project (PF08-30-000). The purpose of the pre-filing process is to encourage early involvement of interested stakeholders and to identify and resolve issues before an application is filed with the FERC.

This NOI is being sent to Federal, State, and local government agencies; elected officials; affected landowners; environmental and public interest groups; Indian tribes and regional Native American organizations; commentors and other interested parties; and local libraries and newspapers. We ² encourage government representatives to notify their constituents of this proposed Project and encourage them to comment on their areas of concern.

² “We”, “us”, and “our” refer to the environmental staff of the Office of Energy Projects (OEP).

If you are a landowner receiving this notice, you may be contacted by a Northwest representative about the acquisition of an easement to construct, operate, and maintain the proposed facilities. Northwest would seek to negotiate a mutually acceptable agreement. However, if the Project is approved by the FERC, that approval conveys with it the right of federal eminent domain. Therefore, if easement negotiations fail to produce an agreement, and the Project is ultimately approved by the FERC, Northwest could initiate condemnation proceedings in accordance with Federal law.

A fact sheet prepared by the FERC entitled “An Interstate Natural Gas Facility on My Land? What Do I Need To Know?” is available for viewing on the FERC Internet Web site (http://www.ferc.gov/for-citizens/citizen-guides.asp). This fact sheet addresses a number of typically asked questions, including the use of eminent domain and how to participate in FERC's proceedings.

Summary of the Proposed Project

Northwest has proposed to construct and operate the Project to provide 150 Mdth/d of transportation capacity out of the Piceance Basin for delivery into the Kern River Gas Transmission Company system where it can be transported to Utah, southern Nevada, and southern California markets. The Project's pipeline loop would be located in Lincoln County, Wyoming, and the compressor station modification would take place in Uintah County, Utah.

Location maps depicting the proposed facilities are attached to this NOI as Appendix 1.³

³ The appendices referenced in this notice are not printed in the Federal Register, but they are being provided to all those who receive this notice in the mail. Copies of the NOI can be obtained from the Commission's Web site at the “eLibrary” link, from the Commission's Public Reference Room, or by calling (202) 502-8371. For instructions on connecting to eLibrary, refer to the end of this notice.

Specifically, Northwest proposes the following components for the Project:

• Construction of 15.5 miles of 30-inch-diameter underground natural gas pipeline originating with northwest's mainline at Valve 6-2 at milepost (MP) 422.2 (MP 0.0 of the Project) and terminating at a tie-in at mainline MP 437.7 in Lincoln county Wyoming.

• Abandonment by removal of two obsolete 3,165-horsepower (hp) at the existing Vernal compressor Station in Uintah County, Utah, and replacing them with one 9,700-hp compressor unit, as well as installation of associated gas piping and gas coolers.

• Use of two or three of the following five potential construction yard sites:

• Muddy Creek Construction Yard, located within the Northwest's existing Muddy Creek Compressor Station, about 6 miles south of Opal in Lincoln County, Wyoming;

• Kemmerer Construction Yard, an existing pipe unloading and storage area located adjacent to the Union Pacific Railroad, about 4 miles south of Kemmerer, in Lincoln County, Wyoming;

• James Town Construction Yard, an existing industrial site located about 4 miles west of Green River, in Sweetwater County, Wyoming;

• Granger Construction Yard, an existing industrial site located about 0.5 mile northwest of Granger in Sweetwater County, Wyoming; and

• Peru Cutoff Construction Yard, an existing industrial site located about 7 miles west of Green River in Sweetwater County, Wyoming.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we will discuss impacts that could occur as a result of the construction and operation of the proposed project under these general headings:

• Geology and soils.

• Water resources.

• Aquatic resources.

• Vegetation and wildlife.

• Threatened and endangered species.

• Land use, recreation, and visual resources.

• Cultural resources.

• Socioeconomics.

• Air quality and noise.

• Reliability and safety.

• Cumulative impacts.

We will also evaluate reasonable alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the Public Participation section.

Public Participation

You can make a difference by providing us with your specific comments or concerns about the Project. Your comments should focus on the potential environmental effects, reasonable alternatives, and measures to avoid or lessen environmental impacts. The more specific your comments, the more useful they will be. To ensure that your comments are timely and properly recorded, please send in your comments so that they will be received in Washington, DC on or before December 29, 2008.

Comments on the proposed Project should be submitted to the FERC in written form. For your convenience, there are three methods which you can use to submit your written comments to the Commission. In all instances please reference the Project docket number (PF08-30-000) with your submission. The three methods are:

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426;

Label one copy of the comments for the attention of Gas Branch 3, PJ-11.3.

The Commission encourages electronic filing of comments and has dedicated eFiling expert staff available to assist you at 202-502-8258 or efiling@ferc.gov.

Once Northwest formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners whose property may be used temporarily for project purposes, who have existing easements from the pipeline, or who own homes within distances defined in the Commission's regulations of certain aboveground facilities.

If you do not want to send comments at this time but still want to remain on our mailing list, please return the Information Request (Appendix 3). If you do not return the Information Request, you will be taken off the mailing list.

Additional Information

Additional information about the Project is available from the Commission's Office of External Affairs at 1-866-208-FERC (3372), or on the FERC Internet Web site (http://www.ferc.gov) using the “eLibrary link.” Click on the eLibrary link, select “General Search” and enter the Project docket number, excluding the last three digits (i.e., PF08-30) in the “Docket Number” field. Be sure you have selected an appropriate date range. For assistance with eLibrary, the eLibrary helpline can be reached at 1-866-208-3676, TTY (202) 502-8659, or by e-mail at FERCOnlineSupport@ferc.gov. The eLibrary link on the FERC Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Kimberly D. Bose,
Secretary.

[FR Doc. E8-28699 Filed 12-3-08; 8:45 am]

BILLING CODE 6717-01-P